DEPARTMENT OF LABOR

Occupational Safety and Health Administration

[Docket No. ICR-1218-1008(2006)]

Standard on Ethylene Oxide (EtO); Extension of the Office of Management and Budget's (OMB) Approval of Information Collection (Paperwork) Requirements

AGENCY: Occupational Safety and Health Administration (OSHA); Labor.

ACTION: Request for public comment.

SUMMARY: OSHA solicits public comments concerning its proposal to extend OMB approval of the information collection requirements contained in its Ethylene Oxide (EtO) Standard (29 CFR 1910.1047). The Standard protects employees from the adverse health effects that may result from occupational exposure to EtO, including carcinogenic, mutagenic, genotoxic, reproductive, neurologic, and sensitization hazards to employees.

DATES: Comments must be submitted by the following dates:

Hard Copy: Your comments must be submitted (postmarked or received) by December 15, 2006.

Facsimile and electronic transmission: Your comments must be received by December 15, 2006.

ADDRESSES: You may submit comments, identified by OSHA Docket No. ICR-1218-0108(2006), by any of the following methods:

Regular mail, express delivery, hand-delivery, and messenger service: Submit your comments and attachments to the OSHA Docket Office, Room N-2625, U.S. Department of Labor, 200 Constitution Avenue, NW., Washington, DC 20210; telephone (202) 693-2350 (OSHA's TTY number is (877) 899-5627). OSHA Docket Office and Department of Labor hours are 8:15 a.m. to 4:45 p.m., e.t.

Facsimile: If your comments are 10 pages or fewer in length, including attachments, you may fax them to the OSHA Docket Office at (202) 693-1648.

Electronic: You may submit comments through the Internet at http://ecomments.osha.gov/. Follow instructions on the OSHA Web page for submitting comments.

Docket: For access to the docket to read or download comments or background materials, such as the complete Information Collection Request (ICR) (containing the Supporting Statement, OMB—83-I Form, and attachments), go to OSHA's Web page at http://www.OSHA.gov. In addition, the ICR, comments and submissions are available for inspection and copying at the OSHA Docket Office at the address above. You also may contact Jamaa Hill at the address below to obtain a copy of the ICR. For additional information on submitting comments, please see the “Public Participation” heading in SUPPLEMENTARY INFORMATION.

FOR FURTHER INFORMATION CONTACT: Jamaa Hill or Todd Owen, Directorate of Standards and Guidance, OSHA, U.S. Department of Labor, Room N-3609, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95)(44 U.S.C. 3506(c)(2)(A)). This program ensures that information is in the desired format, reporting burden (time and costs) is minimal, collection instruments are clearly understood, and OSHA's estimate of the information burden is accurate. The Occupational Safety and Health Act of the 1970 (the Act) authorizes information collection by employers as necessary or appropriate for enforcement of the Act or for developing information regarding the causes and prevention of occupational injuries, illnesses, and accidents (29 U.S.C. 657).

The principal paperwork provisions of the EtO Standard require employers to notify employees of their EtO exposures, implement a written compliance program, administer medical examinations, provide examining physicians with specific information, ensure that employees receive a copy of their medical examination results, maintain employees' exposure-monitoring and medical records for specific periods, and provide access to these records by OSHA, the National Institute for Occupational Safety and Health, the affected employees, and their authorized representatives.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

OSHA is proposing to decrease the existing burden hour estimate and to extend OMB's approval of the collection of information requirements contained in the EtO Standard. The Agency is requesting a decrease in burden hours for the collection of information contained in the EtO Standard from 43,972 hours to 42,732 hours. This 1,240-hour decrease mainly results from decrease in the number of hospitals (which are major EtO consumers). The agency will summarize the comments submitted in response to this notice, and will include this summary in its request to OMB to extend the approval of these information collection requirements.

Type of Review: Extension of a currently approved information collection requirement.

Title: Ethylene Oxide Standard (29 CFR 1910.1047).

OMB Number: 1218-0108.

Affected Public: Business or other for-profits.

Number of Respondents: 5,474.

Frequency: On occasion.

Total Responses: 209,256.

Average Time per Response: Time per response ranges from 5 minutes (.08 hour) to provide information to the examining physician to 2 hours for employees to receive medical examinations.

Estimated Total Burden Hours: 42,732.

Estimated Cost (Operation and Maintenance): $6,595,597.

III. Public Participation—Submission of Comments on this Notice and Internet Access to Comments and Submissions

You may submit comments and supporting materials in response to this notice by (1) hard copy, (2) FAX transmission (facsimile), (3) electronically through the OSHA Web page (see the section titled ADDRESSES above). Because of security-related problems, there may be a significant delay in the receipt of comments by regular mail. Please contact the OSHA Docket Office at (202) 693-2350 (TTY (877) 889-5627) for information about security procedures concerning the delivery of submissions by express delivery, hand delivery, and courier service.

All comments, submissions, and background documents are available for inspection and copying at the OSHA Docket Office at the above address. Comments and submissions posted on OSHA's Web page are available at http://www.OSHA.gov. Contact the OSHA Docket Office for information about materials not available through the OSHA Web page and for assistance using the Web page to locate docket submissions. Electronics copies of this Federal Register notice, as well as other relevant documents, are available on OSHA's Web page. Since all submissions become public, private information such as social security numbers should not be submitted.

IV. Authority and Signature

Edwin G. Foulke, Jr., Assistant Secretary of Labor for Occupational Safety and Health, directed the preparation of this notice. The authority for this notice is the Paperwork Reduction Act of 1995 (44 U.S.C. 3506 et seq.) and Secretary of Labor's Order No. 5-2002 (67 FR 65008).

Signed at Washington, DC, on October 10, 2006.
Edwin G. Foulke, Jr.,
Assistant Secretary of Labor.

[FR Doc. 06-8692 Filed 10-13-06; 8:45 am]

BILLING CODE 4510-26-M